DEPARTMENT OF DEFENSE

Defense Acquisition Regulations System

[Docket DARS-2023-0036; OMB Control Number 0704-0497]

Information Collection Requirement; Defense Federal Acquisition Regulation Supplement; Part 215 Negotiation

AGENCY: Defense Acquisition Regulations System, Department of Defense (DoD).

ACTION: Notice.

SUMMARY: The Defense Acquisition Regulations System has submitted to OMB for clearance, the following proposed extension of a collection of information under the provisions of the Paperwork Reduction Act.

DATES: Consideration will be given to all comments received by January 22, 2024.

ADDRESSES: Written comments and recommendations for the proposed information collection should be sent within 30 days of publication of this notice to https://www.reginfo.gov/public/do/PRAMain. Find this particular information collection by selecting “Currently under 30-day Review—Open for Public Comments” or by using the search function. You may also submit comments, identified by docket number and title, by the following method: Federal eRulemaking Portal: https://www.regulations.gov. Follow the instructions for submitting comments.

FOR FURTHER INFORMATION CONTACT: Angela Duncan, 571-372-7574, or whs.mc-alex.esd.mbx.dd-dodinformation-collections@mail.mil.

SUPPLEMENTARY INFORMATION:

Title and OMB Number: Defense Federal Acquisition Regulation Supplement (DFARS) Part 215 Negotiation; OMB Control Number 0704-0497.

Type of Request: Extension of a currently approved collection.

Respondent's Obligation: Required to obtain or retain benefits.

Affected Public: Businesses or other for-profit and not-for-profit institutions.

Number of Respondents: 157.

Responses per Respondent: 1.

Annual Responses: 157.

Average Burden per Response: 4 hours.

Annual Burden Hours: 628.

Frequency: On Occasion.

Needs and Uses: The purpose of this information collection is to improve the efficiency of the negotiations process by ensuring the submission of thorough, accurate, and complete forward pricing rate proposals. If the contracting officer determines that a forward pricing rate proposal should be obtained pursuant to Federal Acquisition Regulation 42.1701, then contractors following the contract cost principles for commercial organizations in FAR subpart 31.2 will be required to submit a forward pricing rate proposal that complies with Federal Acquisition Regulation 15.408, Table 15-2, and DFARS 215.403-5 and 215.407-5-70. DFARS 215.403-5 provides contractors with guidance for the submittal of forward pricing rate proposals, including a checklist for contractors to use in preparing their proposals. The checklist is submitted to DoD with the forward pricing rate proposal. The forward pricing rate proposal adequacy checklist at Table 215.403-1 is used by the contracting officer and the contractor to ensure the proposal is complete.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2023-28168 Filed 12-21-23; 8:45 am]

BILLING CODE 6820-FR-P